DEPARTMENT OF AGRICULTURE

Forest Service

Notice of New Fee Site; Federal Lands Recreation Enhancement Act, (Title VIII, Pub. L. 108-447)

AGENCY: Malheur National Forest, USDA Forest Service.

ACTION: Notice of New Fee Sites.

SUMMARY: The Malheur National Forest is planning to charge a $60 fee for the overnight rental of Short Creek and Sunshine Cabins. These cabins have not been available for recreation use prior to this date. Rentals of other cabins on the Malheur National Forest have shown that people appreciate and enjoy the availability of historic rental cabins. Funds from the rental will be used for the continued operation and maintenance of Short Creek and Sunshine Cabins.

DATES: Short Creek and Sunshine Cabins will become available for recreation rental May, 2010.

ADDRESSES: Forest Supervisor, Malheur National Forest, P.O. Box 909, John Day, OR 97845.

FOR FURTHER INFORMATION CONTACT: Jennifer Harris, Recreation Fee Coordinator, 541-575-3008.

SUPPLEMENTARY INFORMATION: The Federal Recreation Lands Enhancement Act (Title VII, Pub. L. 108-447) directed the Secretary of Agriculture to publish a six month advance notice in the Federal Register whenever new recreation fee areas are established.

This new fee will be reviewed by a Recreation Resource Advisory Committee prior to a final decision and implementation.

The Malheur National Forest currently has three other cabin rentals. These rentals are often fully booked throughout their rental season. An analysis of Short Creek and Sunshine Cabins has shown that people desire having this sort of recreation experience on the Malheur National Forest. A market analysis indicates that the $60/per night fee is both reasonable and acceptable for this sort of unique recreation experience.

People wanting to rent Short Creek and Sunshine Cabins will need to do so through the National Recreation Reservation Service, at http://www.reserveusa.com or by calling 1-877-444-6777. The National Recreation Reservation Service charges a $9 fee for reservations.

Date: September 17, 2009.
Doug Gochnour,
Malheur National Forest Supervisor.

[FR Doc. E9-23830 Filed 10-5-09; 8:45 am]

BILLING CODE 3410-11-M